DEPARTMENT OF HEALTH AND HUMAN SERVICES

42 CFR Part 93

RIN 0937-AA12

Public Health Service Policies on Research Misconduct; Extension of Comment Period

AGENCY: U.S. Department of Health and Human Services (HHS).

ACTION: Proposed rule; Extension of comment period.

SUMMARY: The Department of Health and Human Services (HHS), Office of the Secretary, Office of the Assistant Secretary for Health (OASH), Office of Research Integrity (ORI) is extending the comment period by 30 days for the proposed rule entitled “Public Health Service Policies on Research Misconduct” published in the Federal Register on October 6, 2023. Public comments must be submitted on or before January 4, 2024.

DATES: HHS is extending the comment period by 30 days on the proposed rule published October 6, 2023 at 88 FR 69583. Submit comments on or before January 4, 2024.

ADDRESSES: For efficient management of comments, HHS requests that all comments be submitted electronically to https://www.regulations.gov (referred to hereafter as “regulations.gov”). In commenting, please refer to the Regulatory Information Number (RIN) [0937-AA12].

Instructions: Enter the RIN in the search field at https://www.regulations.gov and click on “Search.” To view the proposed rule, click on the title of the rule. To comment, click on “Comment” and follow the instructions. If you are uploading multiple attachments into regulations.gov, please number and label all attachments; https://www.regulations.gov will not automatically number them. All relevant comments will be posted without change to https://www.regulations.gov, including any personal information provided. For detailed instructions on submitting comments and additional information on the rulemaking process, see the “Public Participation” heading of the SUPPLEMENTARY INFORMATION section in the Notice of Proposed Rulemaking published at 88 FR 69583.

Docket: For access to the docket to read comments received, please go to https://www.regulations.gov.

FOR FURTHER INFORMATION CONTACT: Sheila Garrity, JD, MPH, MBA, Office of Research Integrity, 1101 Wootton Parkway, Suite 240, Rockville, MD 20852; telephone 240-453-8200.

SUPPLEMENTARY INFORMATION: The Agency is extending the deadline to comment on the proposed rule entitled “Public Health Service Policies on Research Misconduct” published in the Federal Register on October 6, 2023 (88 FR 69583), in response to requests for an extension to allow interested persons additional time to submit comments.

Dated: November 29, 2023.
Xavier Becerra,
Secretary, Department of Health and Human Services.

[FR Doc. 2023-26590 Filed 12-1-23; 8:45 am]

BILLING CODE 4150-31-P